NUCLEAR REGULATORY COMMISSION

[Project No. 753; NRC-2013-0173]

TSTF-523, “Generic Letter 2008-01, Managing Gas Accumulation,” Using the Consolidated Line Item Improvement Process

AGENCY: Nuclear Regulatory Commission.

ACTION: Notice of Availability.

SUMMARY: The U.S. Nuclear Regulatory Commission (NRC) is announcing the availability of Technical Specifications (TS) Task Force (TSTF) Traveler TSTF-523, Revision 2, “Generic Letter 2008-01, Managing Gas Accumulation,” for plant-specific adoption using the Consolidated Line Item Improvement Process (CLIIP). Additionally, the NRC staff finds the proposed TS (Volume 1) and TS Bases (Volume 2) changes in Traveler TSTF-523 acceptable for inclusion in the following Standard Technical Specification (STS): NUREG-1430, “Standard Technical Specifications Babcock and Wilcox Plants,” NUREG-1431, “Standard Technical Specifications Westinghouse Plants,” NUREG-1432, “Standard Technical Specifications Combustion Engineering Plants,” NUREG-1433, “Standard Technical Specifications General Electric Plants BWR/4,” and NUREG-1434, “Standard Technical Specifications General Electric Plants, BWR/6.”

ADDRESSES: Please refer to Docket ID NRC-2013-0173 when contacting the NRC about the availability of information regarding this document. You may access publicly-available information related to this document using any of the following methods:

• Federal Rulemaking Web site: Go to http://www.regulations.gov and search for Docket ID NRC-2013-0173. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michelle C. Honcharik, telephone: 301-415-1774, or email: Michelle.Honcharik@nrc.gov; or for technical questions please contact Matthew Hamm, telephone: 301-415-1472, email: Matthew.Hamm@nrc.gov; both of the Office of Nuclear Reactor Regulation, U.S. Nuclear Regulatory Commission, Washington, DC 20555-0001.

SUPPLEMENTARY INFORMATION: TSTF-523, Revision 2, is applicable to all nuclear power plants. TSTF-523, Revision 2, includes a model application and is available in ADAMS under Accession No. ML113260461. The model safety evaluation for plant-specific adoption of TSTF 523, Revision 2, is available in ADAMS under Accession No. ML13255A169. Minor editorial comments were received from the Notice of Opportunity for Public Comment announced in the Federal Register on August 2, 2013 (78 FR 47010). The disposition of comments received is available in ADAMS under Accession No. ML13255A403. The proposed change captures the on-going activities related to system Operability needed to address the concerns in the Generic Letter 2008-01, “Managing Gas Accumulation in Emergency Core Cooling, Decay Heat Removal, and Containment Spray Systems,” dated January 11, 2008 (ADAMS Accession No. ML072910759). The proposed change modifies the existing Surveillance Requirements (SRs) related to gas accumulation for the emergency core cooling system and adds new SRs on entrained gas to the specifications governing the decay heat removal (also called the residual heat removal and shutdown cooling systems) and the containment spray systems. Similar changes are made to the existing SR on the reactor core isolation cooling system to maintain consistency within the STS. Existing SRs are revised to facilitate the performance of the proposed gas accumulation SR. The TS Bases are revised to reflect the change to the SRs.

Specifically, the Traveler proposed changes to the following sections for each of the six reactor types (corresponding to each of the six NUREGs):

For Babcock and Wilcox Plants, changes were proposed for SRs 3.5.2.2, 3.5.2.3, and 3.6.6.1 as well as the addition of new SRs 3.4.6.3, 3.4.7.4, 3.4.8.3, 3.6.6.4, 3.9.4.2, and 3.9.5.3 to TS 3.4.6, “RCS Loops—MODE 4,” TS 3.4.7, “RCS Loops—MODE 5, Loops Filled,” TS 3.4.8, “RCS Loops—MODE 5, Loops Not Filled,” TS 3.5.2, “ECCS—Operating,” TS 3.6.6, “Containment Spray and Cooling Systems,” TS 3.9.4, “DHR and Coolant Circulation—High Water Level,” and TS 3.9.5, “DHR and Coolant Circulation—Low Water Level,” respectively. Associated Bases changes were proposed for the respective limiting conditions for operation (LCO), SR changes and SR additions. Bases changes for TS 3.5.3, “ECCS—Shutdown,” were also proposed because they reference the SRs and Bases of TS 3.5.2.

For Westinghouse Plants, changes were proposed for SRs 3.5.2.2, 3.5.2.3, 3.6.6A.1, 3.6.6B.1, 3.6.6C.1, 3.6.6D.1, and 3.6.6E.4, as well as the addition of new SRs 3.4.6.4, 3.4.7.4, 3.4.8.3, 3.6.6A.4, 3.6.6B.4, 3.6.6C.2, 3.6.6D.2, and 3.6.6E.5, 3.9.5.2, and 3.9.6.3 to TS 3.4.6, “RCS Loops—MODE 4,” TS 3.4.7, “RCS Loops—MODE 5, Loops Filled,” TS 3.4.8, “RCS Loops—MODE 5, Loops Not Filled,” TS 3.5.2, “ECCS—Operating,” TS 3.6.6A, “Containment Spray and Cooling Systems (Atmospheric and Dual) (Credit taken for iodine removal by the Containment Spray System),” TS 3.6.6B, Containment Spray and Cooling Systems (Atmospheric and Dual) (Credit not taken for iodine removal by the Containment Spray System),” TS 3.6.6C, “Containment Spray System (Ice Condenser),” TS 3.6.6D, “Quench Spray (QS) System (Subatmospheric),” TS 3.6.6E, “Recirculation Spray System (Subatmospheric),” TS 3.9.5, “RHR and Coolant Circulation—High Water Level,” and TS 3.9.6, “RHR and Coolant Circulation—Low Water Level,” respectively. Associated Bases changes were proposed for the respective LCOs, SR changes and SR additions. Bases changes for TS 3.5.3, “ECCS—Shutdown” were also proposed because they reference the SRs and Bases of TS 3.5.2.

For Combustion Engineering Plants, Changes were proposed for SRs 3.5.2.2, 3.5.2.3, 3.6.6A.1, and 3.6.6 B.1, as well as the addition of new SRs 3.4.6.4, 3.4.7.4, 3.4.8.3, 3.6.6A, 3.6.6B.5, 3.9.4.2, and 3.9.5.3 to TS 3.4.6, “RCS Loops—MODE 4,” TS 3.4.7, “RCS Loops—MODE 5, Loops Filled,” TS 3.4.8, “RCS Loops—MODE 5, Loops Not Filled,” TS 3.5.2, “ECCS Operating,” TS 3.6.6A, “Containment Spray and Cooling System (Atmospheric and Dual) (Credit taken for iodine removal by the Containment Spray System),” TS 3.6.6B, “Containment Spray and Cooling System (Atmospheric and Dual) (Credit not taken for iodine removal by the Containment Spray System),” TS 3.9.4, “SDC and Coolant Circulation—High Water Level,” and TS 3.9.5, “SDC and Coolant Circulation—Low Water Level,” respectively. Associated Bases changes were proposed for the respective LCOs, SR changes and SR additions. Bases changes for TS 3.5.3, “ECCS—Shutdown,” were also proposed because they reference the SRs and Bases of TS 3.5.2.

For General Electric BWR/4 Plants, changes were proposed for SRs 3.5.1.1, 3.5.1.2, 3.5.2.3, 3.5.2.4, 3.5.3.1, and 3.5.3.2, as well as the addition of new SRs 3.4.8.2, 3.4.9.2, 3.6.2.3.2, 3.6.2.4.2, 3.9.8.2, and 3.9.9.2 to TS 3.4.8, “RHR Shutdown Cooling System—Hot Shutdown,” TS 3.4.9, “RHR Shutdown Cooling System—Cold Shutdown,” TS 3.5.1, “ECCS—Operating,” TS 3.5.2, “ECCS—Shutdown,” TS 3.5.3, “RCIC System,” TS 3.6.2.3, “RHR Suppression Pool Cooling,” TS 3.6.2.4, “RHR Suppression Pool Spray,” TS 3.9.8, “RHR—High Water Level,” and TS 3.9.9, “RHR—Low Water Level,” respectively. Associated Bases changes were proposed for the respective LCOs, SR changes, and SR additions.

For General Electric BWR/6 Plants, changes were proposed for SRs 3.5.1.1, 3.5.1.2, 3.5.2.3, 3.5.2.4, 3.5.3.1, 3.5.3.2, and 3.6.1.7.1, as well as the addition of new SRs 3.4.9.2, 3.4.10.2, 3.6.1.7.2, 3.6.2.3.2, 3.9.8.2, and 3.9.9.2 to TS 3.4.9, “RHR Shutdown Cooling System—Hot Shutdown,” TS 3.4.10, “RHR Shutdown Cooling System—Cold Shutdown,” TS 3.5.1, “ECCS Operating,” TS 3.5.2, “ECCS—Shutdown,” TS 3.5.3, “RCIC System,” TS 3.6.1.7, “RHR Containment Spray System,” TS 3.6.2.3, “RHR Suppression Pool Cooling,” TS 3.9.8, “RHR High Water Level,” and TS 3.9.9, “RHR—Low Water Level,” respectively. Associated Bases changes were proposed for the respective LCOs, SR changes, and SR additions.

The NRC staff has reviewed the model application for TSTF-523 and has found it acceptable for use by licensees. Licensees opting to apply for this TS change are responsible for reviewing the NRC's staff safety evaluation and the applicable technical bases, providing any necessary plant-specific information, and assessing the completeness and accuracy of their license amendment request (LAR). The NRC will process each amendment application responding to the Notice of Availability according to applicable NRC rules and procedures.

The proposed changes do not prevent licensees from requesting an alternate approach or proposing changes other than those proposed in TSTF-523, Revision 2. However, significant deviations from the approach recommended in this notice or the inclusion of additional changes to the license require additional NRC staff review. This may increase the time and resources needed for the review or result in NRC staff rejection of the LAR. Licensees desiring significant deviations or additional changes should instead submit an LAR that does not claim to adopt TSTF-523, Revision 2.

Dated at Rockville, Maryland, this 23rd day of December, 2013.
For the Nuclear Regulatory Commission.
Anthony J. Mendiola,
Chief, Licensing Processes Branch, Division of Policy and Rulemaking, Office of Nuclear Reactor Regulation.

[FR Doc. 2014-00644 Filed 1-14-14; 8:45 am]

BILLING CODE 7590-01-P